Proclamation 8733 of October 7, 2011

National School Lunch Week, 2011

By the President of the United States of America

A Proclamation

Children are America’s greatest treasure, and ensuring their health is one of our most important duties as parents, families, and community members. Our children’s continued ability to learn in the classroom, grow up healthy, and reach their full potential will depend on what we do now to secure their future. The National School Lunch Program has been a central part of our Nation’s commitment to healthy children since its inception in 1946, improving the nutrition of generations of children with affordable, nutritious meals at school. It now serves tens of millions of children every day.

Despite our successes, too many American children go without proper nutrition. One-third of children in our country are overweight or obese, and without a major change, one-third of children born in the year 2000 will develop Type 2 diabetes during their lifetime. Schools are central to improving child health, as children who eat both school breakfast and lunch may consume more than half their daily calories at school.

The Healthy, Hunger-Free Kids Act of 2010 has brought historic reform to school meal programs. The law takes new steps to address childhood obesity by setting nutritional standards for foods sold in schools, updating requirements for school wellness policies, and providing more nutritional information to parents. It also works to eliminate hunger during the school day by increasing the number of eligible children enrolled in school meal programs and removing barriers to school meals for children most in need.

First Lady Michelle Obama’s Let’s Move! initiative has worked with schools nationwide to create healthy opportunities for children. This year, we exceeded our goal of doubling the number of schools that meet the HealthierUS School Challenge. We have also engaged child care providers in adopting healthier practices, and this year 1.7 million Americans achieved the Presidential Active Lifestyle Award.

To advance our goals even further, Let’s Move! has collaborated with individuals and organizations across our Nation to bring over 800 salad bars to schools, providing thousands of children with greater access to fruits and vegetables. School nutrition professionals, chefs, students, parents, and communities have also used their talents to develop nutritious foods for schools through the Recipes for Healthy Kids competition and the Chefs Move to Schools initiative.

Good nutrition at school is an investment in our children’s futures. During National School Lunch Week, we thank the food program administrators, educators, parents, and communities who provide for our Nation’s sons and daughters, and we recommit to ensuring all our children have the healthy food they need to grow and succeed.

The Congress, by joint resolution of October 9, 1962 (Public Law 87-780), as amended, has designated the week beginning on the second Sunday in October each year as “National School Lunch Week,” and has requested the President to issue a proclamation in observance of this week.

NOW, THEREFORE, I, BARACK OBAMA, President of the United States of America, do hereby proclaim the week of October 9 through October 15, 2011, as National School Lunch Week. I call upon all Americans to join the dedicated individuals who administer the National School Lunch Program in appropriate activities that support the health and well-being of our Nation’s children.

IN WITNESS WHEREOF, I have hereunto set my hand this seventh day of October, in the year of our Lord two thousand eleven, and of the Independence of the United States of America the two hundred and thirty-sixth.

[FR Doc. 2011-26724

Filed 10-12-11; 11:15 am]

Billing code 3295-F2-P